DEPARTMENT OF THE INTERIOR

Fish and Wildlife Service

Three-Year Pilot Program; Electronic Federal Migratory Bird Hunting and Conservation Stamps

AGENCY: Fish and Wildlife Service, Interior.

ACTION: Notice; call for applications.

SUMMARY: The Director of the U.S. Fish and Wildlife Service announces the opportunity for State fish and wildlife agencies to apply to participate in a 3-year pilot program to issue electronic Federal Migratory Hunting and Conservation Stamps. The program is expected to enhance the ability of the public to obtain required Federal Duck Stamps through the use of electronic technology, enhancing public participation and increasing the number of stamps sold.

DATES: The deadline for submittal of applications is close of business, June 8, 2007. The project period for the pilot program will be from September 1, 2007, through September 1, 2010.

ADDRESSES: Please submit your application and supplemental information in Word or text format via e-mail to: Laurie_Shaffer@fws.gov. Alternatively, you may hand deliver or mail a hard copy of the application and supplemental information to Laurie Shaffer, Federal Duck Stamp Office, U.S. Fish and Wildlife Service, 4401 North Fairfax Drive, MS-70, Arlington, VA 22203.

FOR FURTHER INFORMATION CONTACT: Laurie Shaffer, Federal Duck Stamp Office, 4501 North Fairfax Drive, Arlington, VA 22203; 703-358-2002 (phone). If you use a telecommunications device for the deaf (TDD), you may call the Federal Relay Service (FRS) at 1-800-877-8339.

SUPPLEMENTARY INFORMATION:

Federal Duck Stamp Office Mission

Federal Migratory Bird Hunting and Conservation Stamps, commonly known as “Duck Stamps,” are pictorial stamps produced by the U.S. Postal Service for the U.S. Fish and Wildlife Service. Not valid for postage, the stamps originated in 1934 as the Federal license required for all hunters over 16 years of age who wished to hunt migratory birds. (For the history of the Federal Duck Stamp Program, please see 71 FR 18697, April 12, 2006). Federal Duck Stamps have a much larger purpose today, however. Federal Duck Stamps are a vital tool for wetland conservation. Ninety-eight cents out of every dollar generated by the sales of Federal Duck Stamps goes directly to purchase or lease wetland habitat for protection in the National Wildlife Refuge System.

Action in This Notice

The Director takes this action under the Electronic Duck Stamp Act of 2005 (Pub. L. 109-266), which requires that the Secretary of the Interior conduct a 3-year pilot program, under which up to 15 States authorized by the Secretary may issue electronic Federal Duck Stamps. The number of participating State agencies accepted under this program will depend upon the number of compliant applications received.

The Government Paperwork Elimination Act (GPEA) of 1998 (Pub. L.105-277) encourages us to undertake initiatives to improve our application processes. Enhancing the ability of individuals and entities to conduct business with us electronically is a major part of our response to these laws. Therefore, we are taking steps to adopt the Internet as our chief means of conducting transactions in order to improve services to our customers and to simplify and expedite our business processes.

Eligible Applicants

There are currently 40 States that provide for sales of State hunting and fishing licenses by internet, point of sale, or telephone. The application process will lead to the selection of up to 15 eligible participants for this pilot program.

Eligible applicants are State fish and wildlife agencies that have an automated licensing system authorized under State law and are deemed by the Secretary as meeting the requirements of this application process. The proposed system for issuing the electronic Federal Duck Stamp must be compatible with the hunting licensing system of the State and described in the State application approved by the Secretary.

Requests for Applications and Other Information

The application and the procedures and requirements for completing it are available through the U.S. Fish and Wildlife Service's Federal Duck Stamp Office web page at http://www.fws.gov/duckstamps.

Individuals with disabilities may obtain this document in an alternative format (e.g., Braille, large print, audiotape, or computer diskette) on request to the program contact person listed under FOR FURTHER INFORMATION CONTACT. Individuals with disabilities may obtain a copy of this request for applications in an alternative format by contacting that person.

Fiscal Information

Congress did not enact an appropriation for this program. The Service is inviting applications for this pilot program with this understanding.

Randall B. Luthi,
Acting Director, U.S. Fish and Wildlife Service.

[FR Doc. E7-8692 Filed 5-4-07; 8:45 am]

BILLING CODE 4310-55-P